SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Director for Reports Clearance to the addresses or fax numbers shown below.

(OMB), Office of Management and Budget, Attn: Desk Officer for SSA. Fax: 202-395-6974. E-mail address: OIRA_Submission@omb.eop.gov.

(SSA), Social Security Administration, DCBFM, Attn: Director, Center for Reports Clearance, 1333 Annex Building, 6401 Security Blvd., Baltimore, MD 21235. Fax: 410-965-0454. E-mail address: OPLM.RCO@ssa.gov.

The information collections below are pending at SSA. SSA will submit them to OMB within 60 days from the date of this notice. To be sure we consider your comments, we must receive them no later than November 2, 2009. Individuals can obtain copies of the collection instruments by calling the SSA Director for Reports Clearance at 410-965-0454 or by writing to the e-mail address we list above.

1. Blood Donor Locator Service (BDLS)—20 CFR 401.200—0960-0501. This regulation stipulates that when blood donor facilities identify blood donations as Human Immunodeficiency Virus (HIV)-positive, the overseeing State agency must provide the names and Social Security Numbers of the affected donors to SSA's Blood Donor Locator Service. SSA uses this information to furnish the State agencies with the blood donors' address information to notify the blood donors. Respondents are State agencies acting on behalf of blood donor facilities.

Type of Request: Extension of an OMB-approved information collection.

Number of Respondents: 10.

Frequency of Response: 5.

Average Burden per Response: 15 minutes.

Estimated Annual Burden: 13 hours.

2. Continuation of SSI Benefits for the Temporarily Institutionalized—Certification of Period and Need to Maintain Home—20 CFR 416.212(b)(1)—0960-0516. When Supplemental Security Income (SSI) recipients: (1) Enter a public institution, or (2) enter a private medical institution with Medicaid paying more than 50% of expenses, their SSI payments are reduced to a nominal sum. However, if this institutionalization is temporary (defined as a maximum of 3 months), SSA may waive the reduction of benefits.

Before SSA can waive the benefit reduction, the agency must receive the following documentation: (1) A physician's certification that the beneficiary will only be institutionalized for a maximum of 3 months, and (2) certification from the beneficiary, beneficiary's family, or beneficiary's friend confirming that SSI benefits are needed to maintain the living arrangements to which the beneficiary will return post-institutionalization. The respondents are doctors of SSI beneficiaries and the beneficiaries or their family/friends.

Type of Request: Extension of an OMB-approved information collection.

Number of Respondents: 60,000.

Frequency of Response: 1.

Average Burden per Response: 5 minutes.

Estimated Annual Burden: 5,000 hours.

3. Privacy and Disclosure of Official Records and Information; Availability of Information and Records to the Public—20 CFR 401.40(b)&(c), 401.55(b), 401.100(a), 402.130, 402.185—0960-0566. Under the Privacy and Disclosure of Official Records and Information, SSA has established methods in which the public can request the following: Access to their SSA records; disclosure of SSA records; corrections/amendments to their SSA records; consent for release of records; records accessible through the Freedom of Information Act (FOIA); and waiver/reduction of fees normally charged for release of FOIA records. SSA most often collected the required information for these requests through a written letter, with the exception of the consent for release of records for which there is the Form SSA-3288. Respondents are individuals requesting access to, correction of, or disclosure of SSA records.

Type of Request: Revision of an OMB-approved information collection.

Type of request | Number of respondents | Frequency of response | Average burden per response (minutes) | Estimated annual burden (hours)
Access to Records | 10,000 | 1 | 11 | 1,833
Designating a Representative for Disclosure of Records | 3,000 | 1 | 2 | 100
Amendment of Records | 100 | 1 | 10 | 17
Consent of Release of Records | 3,000,000 | 1 | 3 | 150,000
FOIA Requests for Records | 15,000 | 1 | 5 | 1,250
Waiver/Reduction of Fees | 400 | 1 | 5 | 33
Totals | 3,028,500 |  |  | 153,233

4. Representative Payee Report of Benefits and Dedicated Account—20 CFR 416.546, 416.635, 416.640, 416.665—0960-0576. SSA requires representative payees (RPs) to submit a written report accounting for the use of money paid to Social Security and/or Supplemental Security Income (SSI) recipients, and to establish and maintain a dedicated account for these payments. SSA uses Form SSA-6233 to ensure the RPs are using the benefits received for the recipient's current maintenance and personal needs, and the expenditures of funds from the dedicated account are in compliance with the law. Respondents are representative payees for SSI recipients.

Type of Request: Extension of an OMB-approved information collection.

Number of Respondents: 30,000.

Frequency of Response: 1.

Average Burden per Response: 20 minutes.

Estimated Annual Burden: 10,000 hours.

5. The Ticket to Work and Self-Sufficiency Program —20 CFR 411— 0960-0644. Through its Ticket to Work Program Manager, SSA uses the information collected to operate and manage the Ticket to Work Program. SSA uses the Ticket to Work Program to assign Social Security Disability Insurance (SSDI) or Supplemental Security Income (SSI) beneficiaries to a service provider, and follows their progress through the various stages of ticket program participation, such as progress reviews or changes in ticket status. Most of the collections in this Information Collection Request (ICR) require service providers to provide information to SSA for such tasks as selecting a payment system or requesting payments for helping the beneficiary achieve certain work goals. Most of the categories of information collected in this ICR are necessary for SSA to: (1) Comply with the Ticket to Work legislation, and (2) provide proper oversight of the program. SSA collects this information through several modalities, including forms, electronic exchanges, and written documentation. The respondents are SSDI beneficiaries and blind or disabled SSI beneficiaries and their employment networks or State vocational rehabilitation agencies assigned under the auspices of the Ticket to Work Program.

Type of Request: Revision of an OMB approved information collection.

Modality of completion | Number of respondents | Frequency of response | Average burden per response (minutes) | Total annual burden (hours)
(a) 20 CFR 411.140(d)(3); 411.150(b)(3); 411.325(a); SSA-1365; SSA-1370 | 13,700 | 1 | 240 | 54,800
(a) 20 CFR 411.166; 411.170(b); Electronic Data Sharing | 35,584 | 1 | 5 | 2965
(b) 20 CFR 411.145; 411.325; Requesting Ticket Un-assignments | 2,532 | 1 | 15 | 633
(b) 20 CFR 411.535(a)(1)(iii); VR Case Closures | 8,505 | 1 | 5 | 709
(c) 20 CFR 411.192(b)&(c); Request to Place Ticket in Inactive Status | 1,000 | 1 | 30 | 500
(c) 20 CFR 411.200(b); SSA-1375; SSA-L1373; SSA-L1374; SSA-L1377; Certification of Work and Educational Progress | 127,000 | 1 | 15 | 31,750
(c) 20 CFR 411.210(b); Ticket-Use Status after Not Making Timely Progress | 3,145 | 1 | 30 | 1,573
(d) 20 CFR 411.365; 411.505; 411.515; Selecting a Payment System | 118 | 1 | 30 | 59
(e) 20 CFR 411.325(d); 411.415; Reporting Referral Agreement | 48 | 1 | 480 | 384
(f) 20 CFR 411.575; SSA-1391; SSA-1389; SSA-1393; SSA-1399; SSA-1396; SSA-1392; SSA-1398; Requesting EN Payments | 12,420 | 1 | 60 | 12,420
(f) 20 CFR 411.560; SSA-1401; Split Payment Situations | 100 | 1 | 20 | 33
(g) 20 CFR 411.325(f); Periodic Outcomes Reporting | 2,470 | 1 | 120 | 4,940
(h) 20 CFR 411.435; 411.615; 411.625; Dispute Resolutions | 2 | 1 | 120 | 4
(i) 20 CFR 411.320; SSA-1394; EN Contract Changes | 202 | 1 | 10 | 34
Totals | 206,826 |  |  | 110,804

6. Medical Consultant's Review of Psychiatric Review Technique Form—20 CFR 404.1520a, 404.1640, 404.1643, 404.1645, 416.920a—0960-0677. Form SSA-3023 is a program evaluation form SSA's regional review component uses to facilitate the contract medical/psychological consultant's review of the Psychiatric Review Technique Form (PRTF). SSA-3023 records the reviewing medical/psychological consultant's assessment of the PRTF. The medical/psychological consultant only completes form SSA-3023 when an adjudicating component's PRT is in the file. SSA requires form SSA-3023 for each PRT form completed. The respondents are medical/psychological consultants who review the Psychiatric Review Technique Form for quality purposes.

Type of Request: Extension of an OMB-approved information collection.

Number of Respondents: 344.

Frequency of Response: 165.

Average Burden per Response: 12 minutes.

Estimated Annual Burden: 11,352 hours.

Dated: August 28, 2009.
Elizabeth A. Davidson,
Director, Center for Reports Clearance, Social Security Administration.

[FR Doc. E9-21215 Filed 9-1-09; 8:45 am]

BILLING CODE 4191-02-P